FEDERAL MARITIME COMMISSION

Sunshine Act Meetings

AGENCY HOLDING THE MEETING: Federal Maritime Commission.

TIME AND DATE: September 12, 2012—2:00 p.m.

PLACE: 800 North Capitol Street NW., First Floor Hearing Room, Washington, DC.

STATUS: The meeting will be held in Open and Closed Session.

MATTERS TO BE CONSIDERED:

Open Session

1. Briefing on Logistica De Las Americas Conference.

2. Docket No. 11-05: Amendments to the Commission's Rules of Practice and Procedure.

3. Docket No. 11-16: Passenger Vessel Operator Financial Responsibility Requirements for Nonperformance of Transportation.

4. Docket No. 12-07: Solicitation of Views on Requests to Develop and Release Container Freight Rate Indices for U.S. Agricultural Exports based on a Sampling of Service Contracts filed with the FMC.

Closed Session

1. Rate and Surcharge Trends in the Trans Pacific Trade.

CONTACT PERSON FOR MORE INFORMATION: Karen V. Gregory, Secretary, (202) 523-5725.

Rachel E. Dickon,
Assistant Secretary.

[FR Doc. 2012-22200 Filed 9-6-12; 11:15 am]

BILLING CODE 6730-01-P